DEPARTMENT OF COMMERCE

International Trade Administration

Notice of Scope Ruling Applications Filed in Antidumping and Countervailing Duty Proceedings

AGENCY: Enforcement and Compliance, International Trade Administration, Department of Commerce.

SUMMARY: The Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of May 2022.

DATES: Applicable June 24, 2022.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

Notice of Scope Ruling Applications

In accordance with 19 CFR 351.225(d)(3), we are notifying the public of the following scope ruling applications related to AD and CVD orders and findings filed in or around the month of May 2022. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Certain Artist Canvas from the People's Republic of China (China) (A-570-899); EVACPET Fabrics (EVACPET); ² produced in and exported from China; submitted by RV Print Factory LLC (RV Print); May 2, 2022; ³ ACCESS scope segment “EVACPET Fabrics.”

² The products subject to RV Print's request include two fabrics. Fabric No. 1 of the scope ruling request is polyester (polyethylene terephthalate) fabric woven (i.e., warp and weft) filament fiber that has been coated with ethylene-vinyl acetate (EVA), amide lubricants, mineral oil, titanium dioxide, silicon dioxide, and calcium carbonate. Fabric No. 2 of the scope ruling request is polyester (polyethylene terephthalate) fabric woven (i.e., warp and weft) filament fiber that has been coated with ethylene-vinyl acetate (EVA), amide lubricants, mineral oil, titanium dioxide, silicon dioxide totaling, and calcium carbonate. EVACPET is produced in and exported from China. The declared country of origin is China. EVACPET is properly classified under 5903.90.2500 which provides for “Textile fabrics impregnated, coated, covered or laminated with plastics, other than those of heading 5902: Other, Of man-made fibers: Other: Other.”

³ Although this application was filed on ACCESS on Friday, April 29, 2022, it was filed after 5:00 p.m. Eastern Time, therefore we consider it to have been submitted on the next business day, Monday, May 2, 2022 for purposes of calculating deadlines in this segment.

Wooden Bedroom Furniture from China (A-570-890); upholstered furniture; ⁴ produced in and exported from China; submitted by Amini Innovation Corporation (Amini); May 19, 2022; ACCESS scope segment “Amini Upholstered Furniture.”

⁴ The products subject to Amini's request are eighteen pieces of highly decorative, upholstered furniture and seven upholstered mirrors sold through four different Amini collections. Each piece has a main common element of upholstered vinyl fabric and backing wrapped completely around each piece of furniture, along with fully upholstered velvet fabric drawers, such that no exposed wood framing is visible anywhere on the piece (including the back side). Amini's upholstered furniture have common decorate elements made of crystal, glass, steel, and/or acrylics. Amini's upholstered furniture is produced and exported from China. Amini's upholstered furniture is imported under HTSUS 9403.89.6015 and its mirrors are imported under HTSUS 7009.92.5090.

Tapered Roller Bearings and Parts Thereof, Finished or Unfinished from China (A-570-601); Rear Loaded Knuckles (Loaded Knuckles) produced in and exported from China; ⁵ submitted by Dorman Products, Inc. (Dorman); May 23, 2022; ACCESS scope segment “Loaded Knuckles.”

⁵ The products subject to Dorman's request are Loaded Knuckles. A rear loaded knuckle consists of a suspension knuckle that has been pre-assembled with multiple attached components, which contributes to a vehicle's steering, suspension, drivetrain, and braking systems by holding the vehicle wheel in a relative position to the vehicle's frame, while permitting controlled degrees of freedom required for steering and suspension jounce. The rear loaded knuckles that are the subject of this scope request are produced in and exported from China and are classifiable under HTSUS tariff item 8708.80.6590.

Ceramic Tile from China (A-570-108; C-570-109); produced in and exported from China; ⁶ submitted by Elysium Tiles, Inc. (Elysium); May 24, 2022; ACCESS scope segments “Elysium Composite Tile.”

⁶ The products subject to Elysium's request are composite marble tiles made up of multiple layers of material. The tile is produced in six sizes—300 by 300 mm, 300 by 600 mm, 600 by 600 mm, 800 by 400 mm, 800 by 800 mm, and 1200 by 600 mm. The tile is approximately 12 to 15 mm thick. The base, or bottom, layer is made from porcelain, a vitrified ceramic, which if imported by itself, would be subject to the scope of the order. The second, or middle, layer consists of an aviation grade epoxy glue which is used to permanently bind the base layer and the top layer. The third layer consists of top facing material made from nature stone, primarily marble. Once installed, the end user only sees the top facing natural stone. The product is produced in and exported from China. The declared country of origin is China. The composite marble tile is classified on entry under HTSUS code 6907.40.90.51.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁷ Commerce's practice generally dictates that where a deadline falls on a weekend, Federal holiday, or other non-business day, the appropriate deadline is the next business day.⁸ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁹

⁷ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁸ See Notice of Clarification: Application of “Next Business Day” Rule for Administrative Determination Deadlines Pursuant to the Tariff Act of 1930, As Amended, 70 FR 24533 (May 10, 2005).

⁹ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.¹⁰

¹⁰ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: June 17, 2022.
Scot Fullerton,
Associate Deputy Assistant Secretary for Antidumping and Countervailing Duty Operations.

[FR Doc. 2022-13508 Filed 6-23-22; 8:45 am]

BILLING CODE 3510-DS-P